ENVIRONMENTAL PROTECTION AGENCY

[EPA-HQ-OEI-2006-0037; FRL-12444-01-OMS]

Agency Information Collection Activities; Submission to the Office of Management and Budget for Review and Approval; Comment Request; Exchange Network Grants Progress Reports (Renewal)

AGENCY: Environmental Protection Agency (EPA).

ACTION: Notice.

SUMMARY: The Environmental Protection Agency (EPA) has submitted an information collection request (ICR), Exchange Network Grants Program (EPA ICR Number 2207.09, OMB Control Number 2025-0006) to the Office of Management and Budget (OMB) for review and approval in accordance with the Paperwork Reduction Act. This is a proposed extension of the ICR, which is currently approved through November 30, 2024. Public comments were previously requested via the Federal Register on September 19, 2024 during a 60-day comment period. This notice allows for an additional 30 days for public comments.

DATES: Comments may be submitted on or before December 27, 2024.

ADDRESSES: Submit your comments, referencing Docket ID Number EPA ICR Number 2207.09, OMB Control Number 2025-0006 to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Erin McGown, Environmental Protection Agency, 1200 Pennsylvania Ave. NW, Washington, DC 20460; email address: mcgown.erin@epa.gov.

SUPPLEMENTARY INFORMATION: This is a proposed extension of the ICR, which is currently approved through November 30, 2024. An agency may not conduct or sponsor and a person is not required to respond to a collection of information unless it displays a currently valid OMB control number.

Public comments were previously requested via the Federal Register on September 19, 2024 (89 FR 76826) during a 60-day comment period. This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Environmental Protection Agency's (EPA) Office of Mission Support provides funding via grants to EPA's Exchange Network partners (states, territories, and federally recognized Indian tribes) to support the development of the Exchange Network (EN). The EN facilitates the sharing of environmental data, especially through shared and reusable services; streamlines data collection and exchanges to improve timeliness for decision making; increases the quality and access to environmental data; reduces burden and costs for co-regulators and the regulated community; supports better decisions on environmental and health issues; and increases capacity for environmental data management for tribes and U.S. territories. As part of the terms and conditions of the EN grant program, recipients are required to submit the following forms: (i) Semi-Annual Progress Reports (EPA Form 5300-26) twice annually throughout the lifetime of the project, Final Progress Report (EPA Form 5300-26) within 120 calendar days after the period of performance end date, and the IT Component and Project Registration Form, at the time of grant close-out. The information gathered on items (i) and (ii) help EPA to ensure that projects are on schedule to meet identified project goals and produce high quality environmental outputs. The registration form (item iii) provides a detailed summary of the completed project and any developed/reused IT components; this information is made available to future applicants to inform the development of their proposed projects, promote the reuse of technologies, and connect to potential project partners and mentors.

Form Numbers: 5300-26.

Respondents/affected entities: Employees of state, tribal, or territorial environmental government offices.

Respondent's obligation to respond: Required to obtain or retain a benefit (2 CFR part 200, “Uniform Administrative Requirements, Cost Principles, and Audit Requirements for Federal Awards).

Estimated number of respondents: 223 (149 semi-annually for the semi-annual progress report form; 38 annually for the IT Component and Project Registration Form, and 38 annually for the Final Progress Report Form).

Frequency of response: EPA assumes that each grant recipient will submit two Semi-Annual Progress Report Forms each year the grant is active. In addition, the grantees will submit the Final Progress Report to RENC no later than 120 days after the grant performance period end date. At this time, the IT Component and Project Registration Form will likewise be submitted.

Total estimated burden: 493 hours (per year). Burden is defined at 5 CFR 1320.03(b).

Total estimated cost: $29,530 (per year), includes $0 annualized capital or operation & maintenance costs.

Changes in the Estimates: There is a slight decrease of 15 (493 hours in 2024 vs 508 hours in 2021) hours in the total estimated respondent burden as compared with the ICR currently approved by OMB. The number of open active grants each year was estimated at 149, which matches the 2021 estimate, as the number of new assistance agreements has remained consistent since 2021. Estimates for the Final Progress Reporting Form is also very similar to the 2021 estimate, with only a slight increase in the number of expected closed-out grants (from 36 in 2021 to 38 in 2024). This slight increase reflects an expectation for more EN assistance agreements to close out in the upcoming years, as projects which were initially delayed due to workplace changes associated with COVID-19 are now being completed. The slight decrease in burden hours for respondents can be attributed primarily to the retiring of the Quality Assurance Reporting Form, which was previously required within 90 days of each new assistance agreement. There was a new form added for this ICR, which was not present in the 2021 version. The IT Component and Project Registration Form is a fillable PDF form, that is submitted by the grantee to their Regional Exchange Network Coordinator (RENC) at the time of grant close-out. As this form is due at the time of grant close-out, the estimated number matches the estimated number of Final Progress Reports (38). This new form is estimated to take 2 hours to complete, which is a decrease of 0.6 compared to the retired Quality Assurance Reporting Form.

Courtney Kerwin,
Director, Regulatory Support Division.

[FR Doc. 2024-27729 Filed 11-26-24; 8:45 am]

BILLING CODE 6560-50-P